FEDERAL MARITIME COMMISSION

Sunshine Act Meeting

Agency Holding the Meeting: Federal Maritime Commission.

Time and Date: 10 a.m.-October 27, 2004.

Place: 800 North Capitol Street, NW., First Floor Hearing Room, Washington, DC.

Status: A portion of the meeting will be open to the public and the remainder of the meeting will be closed.

Matters To Be Considered:

The Open Portion of the Meeting

1. Petition No. P3-03—Petition of United Parcel Service, Inc., for Exemption Pursuant to Section 16 of the Shipping Act of 1984 to Permit Negotiation, Entry and Performance of Service Contracts; Petition No. P5-03—Petition of the National Customs Brokers and Forwarders Association of America, Inc., for Limited Exemption from Certain Tariff Requirements of the Shipping Act of 1984; Petition No. P7-03—Petition of Ocean World Lines, Inc., for a Rulemaking to Amend and Expand the Definition and Scope of “Special Contracts” to Include All Ocean Transportation Intermediaries; Petition No. P8-03—Petition of BAX Global, Inc., for Rulemaking; Petition No. P9-03—Petition of C.H. Robinson Worldwide, Inc., for Exemption Pursuant to Section 16 of the Shipping Act of 1984 to Permit Negotiation, Entry and Performance of Confidential Service Contracts; Petition No. P1-04—Petition of Danzas Corporation d/b/a Danmar Lines Ltd.; Danzas AEI Ocean Services and DHL Danzas Air and Ocean for Exemption from the Tariff Publishing Requirements of Section 8 of the Shipping Act of 1984, as Amended; Petition No. P2-04—Petition of BDP International, Inc., for Exemption from the Tariff Publishing Requirements of Section 8 of the Shipping Act of 1984, as amended; Petition No. P4-04—Petition of FEDEX Trade Networks Transport & Brokerage, Inc., for Exemption from the Tariff Publishing Requirements of Sections 8 and 10 of the Shipping Act of 1984, as Amended.

2. Draft Final Rule, Docket No. 03-15, Ocean Common Carrier and Marine Terminal Operator Agreements Subject to the Shipping Act of 1984.

The Closed Portion of the Meetings

1. Petition No. P5-04—Petition of American President Lines, Ltd. and APL Co. Pte. Ltd., for a Full Exemption from the First Sentence of Section 9(c) of the Shipping Act of 1984, as amended.

Contact Person For More Information: Bryant L. VanBrakle, Secretary, (202) 523-5725.

Bryant L. VanBrakle,
Secretary.

[FR Doc. 04-23224 Filed 10-13-04; 11:13 am]

BILLING CODE 6730-01-M